DEPARTMENT OF LABOR

Employment and Training Administration

[TA-W-63,019]

Honeywell Aerospace Aerospace—Defense & Space Division Teterboro, NJ; Notice of Negative Determination on Reconsideration

On June 16, 2008, the Department issued an Affirmative Determination Regarding Application for Reconsideration for the workers and former workers of the subject firm. The notice was published in the Federal Register on June 25, 2008 (73 FR 36119).

The initial investigation resulted in a negative determination based on the finding that imports of displays, processors, flight controls, software, and test equipment did not contribute importantly to worker separations at the subject firm and no shift of production to a foreign source occurred.

The United Automobile, Aerospace & Agricultural Implement Workers of America, Local 153 filed a request for reconsideration and alleged that Honeywell is “closing the Teterboro facility and opening a facility in Mexicali, Mexico.”

The Department of Labor contacted a company official to address the allegation that production was shifted from the subject firm to Mexico. The company official confirmed that Honeywell International has a production facility in Mexicali, Mexico. However, it was revealed that the facility in Mexicali does not manufacture articles like or directly competitive with products manufactured at the subject facility. The company official stated that although some production has been shifted by Honeywell from the United States to foreign locations, the articles shifted are not like or directly competitive with the articles manufactured by Aerospace—Defense & Space Division in Teterboro, New Jersey. The official stated that Honeywell Aerospace did not shift production of defense avionics, flight controls, test equipment and displays from the Teterboro facility to any overseas locations. Furthermore, the official stated that the subject firm is ceasing production since Honeywell “made a business decision to sell the Teterboro property” and “consolidate the work into other U.S. locations.” Therefore, the worker separations at the subject firm are the result of production being shifted from the subject facility to other domestic locations.

The petitioner also alleged that the subject firm would cease its production as a direct result of Honeywell importing products from the facility in Mexico to the United States.

The company official stated that Honeywell Aerospace did not import products like or directly competitive with defense avionics, flight controls, test equipment manufactured at the subject facility.

Conclusion

After reconsideration, I affirm the original notice of negative determination of eligibility to apply for worker adjustment assistance for workers and former workers of Honeywell Aerospace, Aerospace—Defense & Space Division, Teterboro, New Jersey.

Signed at Washington, DC, this 15th day of July 2008.
Elliott S. Kushner,
Certifying Officer, Division of Trade Adjustment Assistance.

[FR Doc. E8-16567 Filed 7-18-08; 8:45 am]

BILLING CODE 4510-FN-P